DEPARTMENT OF COMMERCE

National Oceanic and Atmospheric Administration

[I.D. 100603C]

Advisory Committee to the U.S. Section of the International Commission for the Conservation of Atlantic Tunas (ICCAT); Fall Meeting

AGENCY: National Marine Fisheries Service (NMFS), National Oceanic and Atmospheric Administration (NOAA), Commerce.

ACTION: Notice of public meeting.

SUMMARY: In preparation for the 2003 ICCAT meeting, the Advisory Committee to the U.S. Section to ICCAT will hold its annual fall meeting in October 2003.

DATES: The open session will be held on October 26, 2003, from 1 p.m. to 3:15 p.m. Closed sessions will be held on October 26, 2003, from 3:30 p.m. to 5:30 p.m., October 27, 2003, from 9 a.m. to 5:30 p.m., and October 28, 2003, from 9 a.m. to noon. Written comments should be received no later than October 17, 2003.

ADDRESSES: The meeting will be held at the Hilton Hotel, 8727 Colesville Road, Silver Spring, MD 20910. Written comments should be sent to Erika Carlsen at NOAA Fisheries/SF4, Room 13114, 1315 East-West Highway, Silver Spring, MD 20910.

FOR FURTHER INFORMATION CONTACT: Erika Carlsen, 301-713-2276.

SUPPLEMENTARY INFORMATION: The Advisory Committee to the U.S. Section to ICCAT will meet in an open session to consider information on stock status of highly migratory species and 2003 management recommendations of ICCAT's Standing Committee on Research and Statistics (SCRS). The only opportunity for public comment will be during the October 26, 2003, open session. Written comments are encouraged and, if mailed, should be received by October 17, 2003 (see ADDRESSES). Written comment can also be submitted during the open sessions of the Advisory Committee meeting.

The Advisory Committee will go into executive session on October 26, 2003, after the adjournment of the open session, on October 27, 2003, and on the morning of October 28, 2003, to discuss sensitive information relating to upcoming international negotiations. These sessions are not open to the public.

Please be reminded that NMFS expects members of the public to conduct themselves appropriately for the duration of the meeting. At the beginning of the public comment session, an explanation of the ground rules will be provided (e.g., alcohol in the meeting room is prohibited, speakers will be called to give their comments in the order in which they registered to speak, each speaker will have an equal amount of time to speak, and speakers should not interrupt one another). The session will be structured so that all attending members of the public are able to comment, if they so choose, regardless of the degree of controversy of the subject(s). Those not respecting the ground rules will be asked to leave the meeting.

Special Accommodations

The meeting locations are physically accessible to people with disabilities. Requests for sign language interpretation or other auxiliary aids should be directed to Erika Carlsen at (301) 713-2276 at least 5 days prior to the meeting date.

Dated: October 7, 2003.
Bruce C. Morehead,
Acting Director, Office of Sustainable Fisheries, National Marine Fisheries Service.

[FR Doc. 03-25926 Filed 10-14-03; 8:45 am]

BILLING CODE 3510-22-S